SMALL BUSINESS ADMINISTRATION

[Disaster Declaration #13938 and #13939]

Tennessee Disaster Number TN-00079

AGENCY: U.S. Small Business Administration.

ACTION: Amendment 1.

SUMMARY: This is an amendment of the Presidential declaration of a major disaster for Public Assistance Only for the State of Tennessee (FEMA—4171—DR), dated 04/11/2014.

Incident: Severe Winter Storm.

Incident Period: 03/02/2014 through 03/04/2014.

Effective Date: 04/30/2014.

Physical Loan Application Deadline Date: 06/10/2014.

Economic Injury (EIDL) Loan Application Deadline Date: 01/12/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Tennessee, dated 04/11/2014, is hereby amended to include the following areas as adversely affected by the disaster.

Primary Counties: Fayette, Hickman.

All other information in the original declaration remains unchanged.

(Catalog of Federal Domestic Assistance Numbers 59002 and 59008)

James E. Rivera,
Associate Administrator for Disaster Assistance.

[FR Doc. 2014-10550 Filed 5-7-14; 8:45 am]

BILLING CODE 8025-01-P